DEPARTMENT OF COMMERCE

National Oceanic and Atmospheric Administration

50 CFR Part 660

[Docket No. 040429134-4135-01; I.D. 102504B]

Fisheries Off West Coast States and in the Western Pacific; West Coast Salmon Fisheries; Inseason Action #12—Adjustment of the Commercial Salmon Fishery from Humbug Mountain, Oregon to the Oregon-California Border

AGENCY: National Marine Fisheries Service (NMFS), National Oceanic and Atmospheric Administration (NOAA), Commerce.

ACTION: Modification of fishing season; request for comments.

SUMMARY: NMFS announces that the commercial salmon fishery in the area from Humbug Mountain, OR to the Oregon-California Border was modified to be open September 1 through September 3, September 8 through September 10, and September 15 through September 30, or until the attainment of the 3,000 chinook quota, with a modified possession and landing limit of 50 chinook per day per vessel. This action was necessary to conform to the 2004 management goals. The intended effect of this action is to allow the fishery to operate within the seasons and quotas as specified in the 2004 annual management measures.

DATES: Adjustment in the area from Humbug Mountain, OR to the Oregon-California Border effective 0001 hours local time (l.t.) September 1, 2004, until the chinook quota is taken, or 2359 hours l.t., September 30, 2004; after which the fishery will remain closed until opened through an additional inseason action for the west coast salmon fisheries, which will be published in the Federal Register, or until the effective date of the next scheduled open period announced in the 2005 annual management measures. Comments will be accepted through November 16, 2004.

ADDRESSES: Comments on this action must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2004salmonIA12.nwr@noaa.gov address, or through the internet at the Federal eRulemaking Portal: http://www.regulations.gov. Follow the instructions for submitting comments and include the docket number in the subject line of the message. Information relevant to this document is available for public review during business hours at the Office of the Regional Administrator, Northwest Region, NMFS.

FOR FURTHER INFORMATION CONTACT: Christopher Wright, 206-526-6140.

SUPPLEMENTARY INFORMATION: The Regional Administrator modified the season for the commercial salmon fishery in the area from Humbug Mountain, OR to the Oregon-California Border to be open September 1 through September 3, September 8 through September 10, and September 15 through September 30, or until the attainment of the 3,000 chinook quota, with a modified possession and landing limit of 50 chinook per day per vessel. On August 19, 2004, the Regional Administrator determined that the available catch and effort data indicated that the quota of 3,000 chinook may be achieved quickly, and that provisions to slow the catch were needed to avoid exceeding the quota.

All other restrictions remained in effect as announced for 2004 ocean salmon fisheries and previous inseason actions. This action was necessary to conform to the 2004 management goals. Modification of quotas and/or fishing seasons is authorized by regulations at 50 CFR 660.409(b)(1)(i). Modification of the species that may be caught and landed during specific seasons and the establishment or modification of limited retention regulations are authorized by regulations at 50 CFR 660.409(b)(1)(ii).

In the 2004 annual management measures for ocean salmon fisheries (69 FR 25026, May 5, 2004), NMFS announced the commercial fishery for all salmon except coho in the area from Humbug Mountain, OR to the Oregon-California Border would open March 15 through May 31; June 1 through the earlier of June 30 or a 2,600-chinook quota; July 1 through the earlier of July 31 or a 1,600-chinook quota; August 1 through the earlier of August 29 or a 2,500-chinook quota; and September 1 through the earlier of September 30 or a 3,000-chinook quota.

The fishery in the area from Humbug Mountain OR to the Oregon-California Border was modified by Inseason Action #4 to close at midnight on Saturday, June 19, 2004 (69 FR 40817, July 7, 2004) because the available catch and effort data indicated that the quota of 2,600 chinook salmon had been achieved.

The fishery in the area from Humbug Mountain, OR to the Oregon-California Border was modified by Inseason Action #8 to close at midnight on Monday, July 19, 2004 (69 FR 52449, August 26, 2004), because the available catch and effort data indicated that the quota of 1,600 chinook salmon had been achieved.

The fishery in the area from Humbug Mountain, OR to the Oregon-California Border was also modified by Inseason Action #9 to close at midnight on Wednesday, August 4, 2004 (69 FR 53362, September 1, 2004), because the available catch and effort data indicated that the quota of 2,500 chinook salmon had been achieved.

On August 19, 2004, the Regional Administrator consulted with representatives of the Pacific Fishery Management Council and Oregon Department of Fish and Wildlife by conference call. Information related to catch to date, the chinook catch rate, and effort data indicated that it was likely that the chinook quota could be reached early. As a result, the State of Oregon recommended, and the Regional Administrator concurred, that the area from Humbug Mountain, OR to the Oregon-California Border be modified to open September 1 through September 3, September 8 through September 10, and September 15 through September 30, or until the attainment of the 3,000-chinook quota, with a modified possession and landing limit of 50 chinook per day per vessel. All other restrictions that apply to this fishery remained in effect as announced in the 2004 annual management measures.

The Regional Administrator determined that the best available information indicated that the catch and effort data, and projections, supported the above inseason action recommended by the state. The states manage the fisheries in state waters adjacent to the areas of the U.S. exclusive economic zone in accordance with this Federal action. As provided by the inseason notice procedures of 50 CFR 660.411, actual notice to fishers of the above described action was given prior to the date this action was effective by telephone hotline number 206-526-6667 and 800-662-9825, and by U.S. Coast Guard Notice to Mariners broadcasts on Channel 16 VHF-FM and 2182 kHz.

This action does not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of this action was provided to fishers through telephone hotline and radio notification. This action complies with the requirements of the annual management measures for ocean salmon fisheries (69 FR 25026, May 5, 2004), the West Coast Salmon Plan, and regulations implementing the West Coast Salmon Plan (50 CFR 660.409 and 660.411). Prior notice and opportunity for public comment was impracticable because NMFS and the state agency have insufficient time to provide for prior notice and the opportunity for public comment between the time the fishery catch and effort data are collected to determine the extent of the fisheries, and the time the fishery modifications must be implemented to avoid exceeding the quota. Because the rate of chinook harvest was high in this fishery area in all of its previous openings, failure to slow the catch rate in the fishery would increase the risk of exceeding the quota, which could result in fewer spawning fish and possibly reduced yield of the stocks in the future. For the same reasons, the AA also finds good cause to waive the 30-day delay in effectiveness required under U.S.C. 553(d)(3).

This action is authorized by 50 CFR 660.409 and 660.411 and is exempt from review under Executive Order 12866.

Authority: 16 U.S.C. 1801 et seq.

Dated: October 26, 2004.
Alan D. Risenhoover,
Acting Director, Office of Sustainable Fisheries, National Marine Fisheries Service.

[FR Doc. 04-24343 Filed 10-29-04; 8:45 am]

BILLING CODE 3510-22-S